DEPARTMENT OF DEFENSE

Department of the Navy

Meeting of the Naval Research Advisory Committee

AGENCY: Department of the Navy, Department of Defense (DoD).

ACTION: Notice of open meeting.

SUMMARY: The Naval Research Advisory Committee (NRAC) will meet August 20 through August 24 and August 27 through August 30, 2012 to discuss materials in support of two studies: How Autonomy Can Transform Naval Operations (USN) and Lightening the Information Load (USMC). All sessions on August 20 through August 24 and August 27 through August 30 will be open to the public.

DATES: Monday, August 20 through Friday, August 24 and Monday, August 27 through Thursday, August 30, from 8 a.m. to 4 p.m. each day.

ADDRESSES: The NRAC study meeting will take place in the Cloud Room and Conference Center, Space and Naval Warfare Center, San Diego, CA SPAWARSYSCEN PACIFIC, 53605 Hull Street, San Diego CA 92152-5410.

FOR FURTHER INFORMATION CONTACT: Mr. William H. Ellis, Jr., Program Director, Naval Research Advisory Committee, 875 North Randolph Street, Room 1251, Arlington, VA 22203-1955, phone: 703-696-5775, email: william.h.ellis@navy.mil.

SUPPLEMENTARY INFORMATION:

Access instructions for the public:

All guests must notify the NRAC office of their intention of attending one or more days of the meeting. Please submit the following information via Fax to the NRAC office no later than Friday, August 10, 2012: Full name, last four digits of your Social Security Number (SSN), contact address, contact telephone, citizenship.

Please forward this information to the following NRAC staff: Mr. William Ellis, NRAC Program Director, Fax: 703-696-4837 or Mr. Miguel Becerril, NRAC Program Manager, Fax: 703-696-4837.

A list of potential visitors will be provided to the security personnel at the Space and Naval Warfare Systems Center (SPAWARS). Please present two forms of identification and request the security officer to search for your name on the visitor access roster for the NRAC meeting. All guests must have at least two forms of government issued identification. All guests will be limited to only those areas related to the study meeting activities. All guests will be required to leave SPAWARS upon completion of the NRAC activities open to the public, unless otherwise authorized to remain aboard military installations (Active duty, Retirees, etc.).

Dated: June 28, 2012.
Aaron Siegel,
Alternate OSD Federal Register Liaison Officer, Department of Defense.

[FR Doc. 2012-16274 Filed 7-2-12; 8:45 am]

BILLING CODE 5001-06-P